FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 2, 2017.

A. Federal Reserve Bank of Chicago (Colette A. Fried, Assistant Vice President) 230 South LaSalle Street, Chicago, Illinois 60690-1414:

1. Steven R. Lane, Farnhamville, Iowa, individually, and as a family group acting in concert with: Randy A. and Geri L. Lane, El Cajon, California; Keith V. and Sharon M. Lane, North Las Vegas, Nevada; Kathryn A. Lane and Joseph Thomas Fromme, Hilton Head, South Carolina; Renae M. Lane, Farnhamville, Iowa; Bradley S. and Jennifer L. Lane, Gowrie, Iowa; Brian T. and Jessica Lane, Farnhamville, Iowa; Cody and Tiffany R. Christensen, Des Moines, Iowa; Todd M. Madson, Jefferson, Iowa; Bret A. Madson, Jefferson, Iowa; Cheri S. Delay, Jefferson, Iowa; to retain control of more than 25 percent of the voting shares of Security Financial, Inc., Farnhamville, Iowa, and thereby indirectly control Security Savings Bank, Gowrie, Iowa.

B. Federal Reserve Bank of San Francisco (Gerald C. Tsai, Director, Applications and Enforcement) 101 Market Street, San Francisco, California 94105-1579:

1. First Financial Northwest Inc. Employee Stock Ownership Trust (ESOP), and ESOP Administrators Dana E. Floth, Christine Huestis, and Richard P. Jacobson, all of Renton, Washington; and ESOP Trustee, First Bankers Trust Services, Inc., Quincy, Illinois; to retain and acquire additional voting shares of First Financial Northwest, Inc., and thereby indirectly acquire shares of First Financial Northwest Bank, both of Renton, Washington.

Board of Governors of the Federal Reserve System, February 10, 2017.
Yao-Chin Chao,
Assistant Secretary of the Board.

[FR Doc. 2017-03053 Filed 2-14-17; 8:45 am]

BILLING CODE 6210-01-P